DEPARTMENT OF ENERGY

Federal Energy Regulatory Commission

Combined Notice of Filings #1

Take notice that the Commission received the following electric rate filings:

Docket Numbers: ER10-2137-018; ER10-2124-017; ER10-2125-018; ER10-2127-016; ER10-2128-017; ER10-2130-017; ER10-2131-018; ER10-2132-017; ER10-2133-018; ER10-2138-018; ER10-2139-018; ER10-2140-018; ER10-2141-018; ER10-2764-017; ER11-3872-019; ER11-4044-018; ER11-4046-017; ER12-164-016; ER14-2187-012; ER14-2798-010; ER14-2799-010; ER15-1041-007; ER15-1873-007; ER15-2205-007

Applicants: Beech Ridge Energy LLC, Beech Ridge Energy II LLC, Beech Ridge Energy Storage LLC, Bishop Hill Energy III LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC.

Description: Notice of Change in Facts Under Market-Based Rate Authority of Beech Ridge Energy LLC, et al.

Filed Date: 8/16/17.

Accession Number: 20170816-5110.

Comments Due: 5 p.m. ET 9/6/17.

Docket Numbers: ER11-4050-005.

Applicants: Cogentrix of Alamosa, LLC.

Description: Supplement to May 12, 2017 Notice of non-material change in status of Cogentrix of Alamosa, LLC.

Filed Date: 7/20/17.

Accession Number: 20170720-5177.

Comments Due: 5 p.m. ET 9/6/17.

Docket Numbers: ER16-1456-000.

Applicants: Talen Energy Marketing, LLC.

Description: Report Filing: TEM Refund Report (ER16-1456) to be effective N/A.

Filed Date: 8/15/17.

Accession Number: 20170815-5128.

Comments Due: 5 p.m. ET 9/5/17.

Docket Numbers: ER17-2042-001.

Applicants: Southwest Power Pool, Inc.

Description: Tariff Amendment: 3340 Otter Tail Power Company NITSA and NOA to be effective 6/1/2017.

Filed Date: 8/16/17.

Accession Number: 20170816-5051.

Comments Due: 5 p.m. ET 9/6/17.

Docket Numbers: ER17-2153-001.

Applicants: ISO New England Inc.

Description: ISO New England Inc. submits tariff filing per 35.17(a): Withdrawal of eTariff document to be effective N/A.

Filed Date: 7/28/17.

Accession Number: 20170728-5225.

Comments Due: 5 p.m. ET 8/18/17.

Docket Numbers: ER17-2312-000.

Applicants: Southwest Power Pool, Inc.

Description: § 205(d) Rate Filing: Tariff Revisions to Remove Day-Ahead Limited Must Offer Requirement to be effective 10/16/2017.

Filed Date: 8/15/17.

Accession Number: 20170815-5138.

Comments Due: 5 p.m. ET 9/5/17.

Docket Numbers: ER17-2313-000.

Applicants: Midcontinent Independent System Operator, Inc.

Description: § 205(d) Rate Filing: 2017-08-16_SA 2506 ITC-Pheasant Run E&P (J075) Termination to be effective 8/17/2017.

Filed Date: 8/16/17.

Accession Number: 20170816-5002.

Comments Due: 5 p.m. ET 9/6/17.

Docket Numbers: ER17-2314-000.

Applicants: Midcontinent Independent System Operator, Inc.

Description: § 205(d) Rate Filing: 2017-08-16_Termination of SA 2729_MidAmerican-RPM E&P (J343) to be effective 8/17/2017.

Filed Date: 8/16/17.

Accession Number: 20170816-5003.

Comments Due: 5 p.m. ET 9/6/17.

Docket Numbers: ER17-2315-000.

Applicants: Portland General Electric Company.

Description: Portland General Electric Company submits Average System Cost Filing for Sales of Electric Power to the Bonneville Power Administration, FY 2018-2019.

Filed Date: 8/15/17.

Accession Number: 20170815-5164.

Comments Due: 5 p.m. ET 9/5/17.

Docket Numbers: ER17-2316-000.

Applicants: Indiana Michigan Power Company, PJM Interconnection, L.L.C.

Description: § 205(d) Rate Filing: Indiana Michigan submits Original CIAC, Service Agreement No. 4755, with NIPSCO to be effective 7/18/2017.

Filed Date: 8/16/17.

Accession Number: 20170816-5010.

Comments Due: 5 p.m. ET 9/6/17.

Docket Numbers: ER17-2317-000.

Applicants: Mid-Atlantic Interstate Transmission, LLC, PJM Interconnection, L.L.C.

Description: § 205(d) Rate Filing: MAIT submits an ECSA, Service Agreement No. 4711 with PPL Electric to be effective 10/15/2017.

Filed Date: 8/16/17.

Accession Number: 20170816-5065.

Comments Due: 5 p.m. ET 9/6/17.

Docket Numbers: ER17-2318-000.

Applicants: Cuyama Solar, LLC.

Description: Baseline eTariff Filing: Application for Market-Based Rate Authority to be effective 9/29/2017.

Filed Date: 8/16/17.

Accession Number: 20170816-5081.

Comments Due: 5 p.m. ET 9/6/17.

Take notice that the Commission received the following qualifying facility filings:

Docket Numbers: QF17-1330-000.

Applicants: S2NRG LLC.

Description: Form 556 of S2NRG LLC.

Filed Date: 8/15/17.

Accession Number: 20170815-5177.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2017.
Nathaniel J. Davis, Sr.,
Deputy Secretary.

[FR Doc. 2017-17727 Filed 8-21-17; 8:45 am]

BILLING CODE 6717-01-P